DEPARTMENT OF AGRICULTURE

Animal and Plant Health Inspection Service

9 CFR Part 1

[Docket No. APHIS-2006-0158]

Animal Welfare; Petition for Rulemaking

AGENCY: Animal and Plant Health Inspection Service, USDA.

ACTION: Notice of petition and request for comments.

SUMMARY: We are notifying the public of our receipt of a petition for rulemaking, and we are soliciting public comment on that petition. The petition, sponsored by The Hunte Corporation, requests that we replace the definition of Class “B” licensee in the Animal Welfare Act regulations with four new categories of licensees: Pet distributor, exhibitor animal distributor, laboratory animal distributor, and other distributor.

DATES: We will consider all comments that we receive on or before June 11, 2007.

ADDRESSES: You may submit comments by either of the following methods:

• Federal eRulemaking Portal: Go to http://www.regulations.gov, select “Animal and Plant Health Inspection Service” from the agency drop-down menu, then click “Submit.” In the Docket ID column, select APHIS-2006-0158 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2006-0158, Regulatory Analysis and Development, PPD, APHIS, Station 3A-03.8, 4700 River Road Unit 118, Riverdale, MD 20737-1238. Please state that your comment refers to Docket No. APHIS-2006-0158.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Jerry DePoyster, Senior Veterinary Medical Officer, Animal Care, APHIS, 4700 River Road Unit 84, Riverdale, MD 20737-1234; (301) 734-7586.

SUPPLEMENTARY INFORMATION:

Background

The Animal Welfare Act (the Act, 7 U.S.C. 2131 et seq.) authorizes the Secretary of Agriculture to promulgate standards and other requirements governing the humane handling, care, treatment, and transportation of certain animals by dealers, research facilities, exhibitors, carriers, and intermediate handlers. The Secretary of Agriculture has delegated the responsibility of administering the Act to the Administrator of the Animal and Plant Health Inspection Service (APHIS). The regulations established under the Act are contained in title 9 of the Code of Federal Regulations (9 CFR), chapter I, subchapter A, parts 1, 2, and 3. Part 1 defines various terms used in parts 2 and 3.

In part 1, § 1.1 sets forth definitions for three classes of licensees: Class “A,” Class “B,” and Class “C.” Class “A” licensees are dealers whose business consists only of animals that are bred and raised on the premises and acquired for the sole purpose of maintaining or enhancing the breeding colony. Class “B” licensees are dealers whose business includes the purchase or resale of any animal. Class “B” licensees do not usually take actual physical possession or control of the animals or hold them in any facilities. Class “C” licensees are exhibitors whose business involves the showing or displaying of animals to the public. Class “C” licensees may buy and sell animals as a minor part of their business to maintain or add to their animal collection.

APHIS has received a petition for rulemaking sponsored by The Hunte Corporation, a Class “B” licensee, requesting changes to the definition of Class “B” licensee contained in § 1.1 of the regulations. Specifically, the petition requests that we replace the definition of Class “B” licensee with four new categories of dealers: Pet distributor, exhibitor animal distributor, laboratory animal distributor, and other distributor.

The petition is available for review on the Regulations.gov Web page and in our reading room (see ADDRESSES above for instructions for accessing Regulations.gov and for information on the location and hours of the reading room). Copies may also be obtained from the person listed under FOR FURTHER INFORMATION CONTACT. We invite comments on the changes discussed in the petition.

Authority: 7 U.S.C. 2131-2159; 7 CFR 2.22, 2.80, and 371.7.

Done in Washington, DC, this 4th day of April 2007.
Kevin Shea,
Acting Administrator, Animal and Plant Health Inspection Service.

[FR Doc. E7-6701 Filed 4-9-07; 8:45 am]

BILLING CODE 3410-34-P